ENVIRONMENTAL PROTECTION AGENCY

[FRL-9981-59-Region 2]

Proposed CERCLA Cost Recovery Settlement for the Barrio Vietnam Superfund Site, Guaynabo, Puerto Rico

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with Ecolab Manufacturing Inc., Olay LLC, and The Procter & Gamble Company (collectively “Settling Parties”) related to the Barrio Vietnam Superfund Site (“Site”), located in Guaynabo, Puerto Rico. This notice informs the public of its opportunity to comment on the settlement.

DATES: Comments must be submitted on or before September 10, 2018.

ADDRESSES: Written comments should be addressed to the EPA employee identified below. The proposed settlement is available for public inspection at EPA Region 2 offices at 290 Broadway, New York, New York 10007-1866. Comments should reference the Barrio Vietnam Superfund Site, located in Guaynabo, Puerto Rico, Index No. II-CERCLA-02-2018-2014. To request a copy of the proposed settlement agreement, please contact the EPA employee identified below.

FOR FURTHER INFORMATION CONTACT: Argie Korkidis Cirillo, Attorney, Office of Regional Counsel, New York/Caribbean Superfund Branch, U.S. Environmental Protection Agency, 290 Broadway, 17th Floor, New York, NY 10007-1866. Email: cirillo.argie@epa.gov Telephone: 212-637-3178.

SUPPLEMENTARY INFORMATION: EPA alleges that Settling Parties are responsible parties pursuant to Section 107(a) of CERCLA, 42 U.S.C. 9607(a), and are jointly and severally liable for response costs incurred or to be incurred at or in connection with the Site. Within 30 days of the Effective Date of this Settlement Agreement, Settling Parties shall pay to the EPA Hazardous Substance Superfund the amount of $1,084,864.29. The settlement includes a covenant by EPA not to sue or to take administrative action against the Settling Parties pursuant to Section 107(a) of CERCLA, 42 U.S.C. 9607(a), for EPA's response costs paid in connection with the Site through the Effective Date of the Agreement. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: July 12, 2018.
John Prince,
Acting Director, Emergency and Remedial Response Division, U.S. Environmental Protection Agency, Region 2.

[FR Doc. 2018-17203 Filed 8-9-18; 8:45 am]

BILLING CODE 6560-50-P